DEPARTMENT OF COMMERCE

National Oceanic and Atmospheric Administration

RIN 0648-XF490

Surveys of Marine Recreational Fishing Effort on the U.S. Atlantic Coast and in the Gulf of Mexico; Marine Recreational Information Program (MRIP); Center for Independent Experts; Public Meeting

AGENCY: National Marine Fisheries Service (NMFS), National Oceanic and Atmospheric Administration (NOAA), Commerce.

ACTION: Notice of public meeting.

SUMMARY: NMFS is convening a peer review of a Calibration Model proposed by the Marine Recreational Information Program (MRIP) to support its planned transition from a legacy telephone survey to a new mail survey for collecting data needed to estimate marine recreational fishing effort by shore and private/rental boat anglers on the Atlantic coast and in the Gulf of Mexico. The peer review includes reviewers appointed by the Center for Independent Experts (CIE), as well as reviewers selected by the Atlantic States Marine Fisheries Commission and the New England, Mid-Atlantic, South Atlantic, and Gulf of Mexico Fishery Management Councils. This notice lists the time and place of the Peer Review Workshop.

DATES: The Workshop will be held from 9 a.m. on June 27, 2017 until 12 p.m. on June 29, 2017.

ADDRESSES: The Workshop will be held at the Sheraton Hotel, 8777 Georgia Avenue, Silver Spring, MD, 20910; Phone: 301/589-0800.

FOR FURTHER INFORMATION CONTACT: Dr. David Van Voorhees, Chief of Fisheries Statistics Division of NMFS Office of Science and Technology; phone 301/427-8189; FAX 301/427-4520; email: Dave.Van.Voorhees@noaa.gov.

SUPPLEMENTARY INFORMATION: The Marine Recreational Information Program formed a Transition Team in 2015 to plan transitions from legacy survey designs to new, or improved, survey designs for monitoring marine recreational fishing effort and catch. The Transition Team consists of representatives from NOAA Fisheries, the regional fishery management councils, the interstate fisheries commissions, and several state marine fisheries agencies. The team prepared a transition plan for implementing a new mail survey called the “Fishing Effort Survey” to replace the legacy telephone survey called the “Coastal Household Telephone Survey”. The plan requires development of a calibration model to account for consistent differences between the surveys in their statistical estimates of fishing effort.

The Peer Review Workshop will provide an assessment of the model developed by MRIP for this purpose. The product of the Workshop will be a Summary documenting panel opinions regarding the strengths and weaknesses of the proposed calibration model. The panel of reviewers will consist of three persons selected by the Center of Independent Experts, and four persons selected by the regional fishery management councils and ASMFC. The Panel will be chaired by an individual also selected by the councils and ASMFC. The Agenda is subject to change, and the latest version will be posted at http://www.countmyfish.noaa.gov. The workshop will also be accessible by webinar in listen-only mode. Requests for webinar access should be directed to NMFS (see FOR FURTHER INFORMATION CONTACT) three days prior to the workshop.

Special Accommodations

This workshop will be physically accessible to people with disabilities. Requests for auxiliary aids should be directed to NMFS (see FOR FURTHER INFORMATION CONTACT) three days prior to the meeting.

Note: The times and sequence specified in the agenda are subject to change.

Authority: 16 U.S.C. 1801 et seq.

Dated: June 16, 2017.
Ned Cyr,
Director, Office of Science and Technology, National Marine Fisheries Service.

[FR Doc. 2017-12962 Filed 6-20-17; 8:45 am]

BILLING CODE 3510-22-P